DEPARTMENT OF HEALTH AND HUMAN SERVICES

Centers for Disease Control and Prevention

The National Center for Environmental Health (NCEH) of the Centers for Disease Control and Prevention (CDC) Announces the Following Meeting

Name: Public Meeting to Review and Re-evaluate Safe Airborne Exposure Limits (AELs) of Nerve Agents GA, GB and VX.

Time and Dates: 8 am-5 pm, Wednesday, August 23, 2000.

8 am-5 pm, Thursday, August 24, 2000.

Place: J.W. Marriott Hotel, 3300 Lenox Road NE, Atlanta, GA 30326, telephone 404/262-3344. For overnight accommendations, a special room rate is available until Friday, July 21, 2000.

Status: Open to the public, limited only by space available. The meeting room accommodates approximately 100 people.

Background: Chemical warfare materials agents GA, GB, and VX are no longer manufactured in the U.S.; however, they currently are stored at 8 locations in the continental U.S. by the Department of Defense (DOD). Public Law (Pub. L.)99-145 (50 U.S.C. 1521) mandates that these stockpiled lethal chemical agents be destroyed. In 1970, Pub. L. 91-121 and Pub. L. 91-441 (50 U.S.C. 1521) mandated that the Department of Health and Human Services must review DOD plans for disposing of the munitions and make recommendations to protect human health. In 1987, CDC requested public comment on recommendations for protecting human health and the environment against potential adverse effects of long-term exposure to low doses of agents: G, GB, VX, Mustard (H, HD, T) and Lewisite (L). CDC incorporated the public comments and in 1988 recommended control limits for air exposures to agents GA, GB, and VX for protection of workers involved in the demilitarization process and for the general public living in areas adjacent to demilitarization facilities. The Army adopted these control limits into policy in 1990. Now, twelve years later, CDC is recommending that these control limits be re-evaluated based on newly developed risk models and any updated scientific data. Additionally, the U.S. Army Center for Health Promotion and Prevention Medicine (USACHPPM) has overseen an initiative to re-evaluate existing AELs for chemical warfare agents and to develop new levels based on currently accepted risk assessment approaches and incorporation of data which has recently become available.

Purpose: The purpose of this meeting is to review the AELs set for GA, GB, and VX based on the 1988 recommendations from CDC and determine modifications required to update these limits to reflect current findings. Based on new risk assessment models and any available scientific data, CDC will engage nerve agent experts and the public in an evaluation of the current limits and recommend updated limits based on the public comments.

To facilitate the public dialogue, CDC will provide a forum for general public interaction and serve as a vehicle for members of the public to provide their individual concerns.

Matters To Be Discussed: Agenda items include (1) presentation of newly developed risk assessment models and scientific data, (2) panel discussion by nerve agent specialists,(3) recommended modifications to existing levels based on panel comments, and (4) collect public comments on proposed new AELs.

There will be time for public input, questions, and comments.

Agenda items are subject to change as priorities dictate.

Contact Person for Additional Information: Sascha Beck, Chemical Demilitarization Branch, Division of Emergency and Environmental Health Services, NCEH, CDC, 4770 Buford Highway NE (F-16), Atlanta, Georgia, 30341-3724, telephone 770/488-4078, fax 770/488-4127.

The Director, Management Analysis and Services office has been delegated the authority to sign Federal Register notices pertaining to announcements of meetings and other committee management activities, for the Centers for Disease Control and Prevention.

Dated: June 15, 2000.
Carolyn J. Russell,
Director, Management Analysis and Services Office, Centers for Disease Control and Prevention.

[FR Doc. 00-15585 Filed 6-20-00; 8:45 am]

BILLING CODE 4163-18-P